DEPARTMENT OF HOMELAND SECURITY

Federal Emergency Management Agency

44 CFR Part 67

[Docket No. FEMA-B-7705]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Grand County, Colorado, and Incorporated Areas
Fraser River | Approximately 1700 ft upstream of the intersection with State Highway 8 | None | +8550 | Town of Fraser Grand County (Unincorporated Areas).
| Approximately 2445 ft downstream of the confluence with Leland Creek | *8623 | +8628
* National Geodetic Vertical Datum.
# Depth in feet above ground.
+ North American Vertical Datum.
ADDRESSES
Town of Fraser
Maps are available for inspection at 153 Fraser Avenue, Fraser, CO 80442.
Send comments to The Honorable Fran Cook, Mayor, Town of Fraser, P.O. Box 120, Fraser, CO 80442.
Grand County (Unincorporated Areas)
Maps are available for inspection at 308 Byers Avenue, Hot Sulphur Springs, CO 80451.
Send comments to Mr. James Newberry, Chairman, Board of County Commissioners, P.O. Box 264, Hot Sulphur Springs, CO 80451.
Edwards County, Kansas, and Incorporated Areas
Arkansas River | At U.S. Highway 50 | None | +2160 | Edwards County (Unincorporated Areas).
| Approximately 2 miles upstream of Old U.S. Highway 183 | None | +2187
Big Coon Creek | At U.S. Highway 50 | None | +2164 | Edwards County (Unincorporated Areas), City of Kinsley.
| At Colony Avenue | *2171 | +2172
| Approximately 1 mile upstream of Winchester Avenue | None | +2179
Little Coon Creek | At Winchester Avenue | None | +2169 | Edwards County (Unincorporated Areas).
| Approximately 2 miles upstream of County Road 13 | None | +2183
* National Geodetic Vertical Datum.
# Depth in feet above ground.
+ North American Vertical Datum.
ADDRESSES
Edwards County (Unincorporated Areas)
Maps are available for inspection at the County Clerk's Office, 312 Massachusetts Avenue, Kinsley, KS 67547.
Send comments to The Honorable Duane Mathes, Commissioner, Edwards County, 312 Massachusetts Avenue, Kinsley, KS 67547.
City of Kinsley
Maps are available for inspection at City Hall, 721 Marsh, Kinsley, KS 67547.
Send comments to The Honorable Michael Hermann, Mayor, City of Kinsley, 721 Marsh, Kinsley, KS 67547.
Hillsborough County, New Hampshire and Incorporated Areas
Baboosic Brook | At confluence with Souhegan River | *119 | +118 | Town of Bedford, Town of Merrimack.
| Approximately 1,150 feet downstream of Stowell Road | *222 | +221
Chase Brook | Just upstream of State Route 3A | *135 | +136 | Town of Litchfield.
| Approximately 100 feet upstream of Pilgrim Road | None | +174
Contoocook River | Approximately 1.52 miles upstream of Boston and Maine Railroad | *595 | +594 | Town of Hills­borough, Town of Peterborough.
| Approximately 1.37 miles upstream of Drury Road | *851 | +854
Gumpas Road Brook | Just upstream of Marsh Road | *136 | +137 | Town of Pelham.
| Just upstream of Debbie Drive | None | +167
Naticook Brook | At U.S. Route 3 | *122 | +117 | Town of Merrimack.
| Approximately 70 feet downstream of Naticook Lake Outlet | None | +204
Nesenkeag Brook | Approximately 100 feet downstream of State Route 3A | *121 | +120 | Town of Litchfield.
| Approximately 1 mile upstream of Albuquerque Boulevard | *173 | +182
Nubanusit Brook | At confluence with Contoocook River | *721 | +722 | Town of Peterborough.
| Approximately 30 feet upstream of Wilder Street | *861 | +863
Otter Brook | Approximately 450 feet downstream of State Route 136 | *702 | +703 | Town of Peterborough, Town of Greenfield.
| Approximately 2,300 feet upstream of the confluence of Otter Lake Brook | *800 | +801
Pennichuck Brook | Just upstream of Harris Pond Dam | *139 | +142 | City of Nashua.
| Just downstream of Pennichuck Pond Outlet | *191 | +189
Salmon Brook | At confluence with Merrimack River | *113 | +112 | City of Nashua.
| Approximately 2,800 feet upstream of Ridge Road Bridge | *160 | +156
Second Brook | Approximately 400 feet upstream of Radcliffe Road | *115 | +112 | Town of Hudson.
| Approximately 40 feet upstream of Wason Road | None | +177
Pointer Club Brook | Approximately 480 feet downstream of U.S. Highway 3 | None | +146 | Town of Merrimack.
| Just downstream of F.E. Everett Turnpike | None | +155
Stony Brook | Just downstream of Small Dam | None | +820 | Town of Lynde­borough.
| Approximately 2,600 feet downstream of School House Road | None | +825
Tributary B No. 1 | At confluence with Chase Brook | *169 | +170 | Town of Litchfield.
| Just upstream of State Route 102 | None | +193
Tributary B No. 2 | Approximately 400 feet upstream of Forest Road | None | +820 | Town of Greenfield.
| Approximately 2,600 feet upstream of Forest Road | None | +835
Naticook Lake | For the entire Lake | None | +208 | Town of Merrimack.
* National Geodetic Vertical Datum.
# Depth in feet above ground.
+ North American Vertical Datum.
ADDRESSES
Town of Bedford
Maps are available for inspection at Bedford Town Planning Department, 24 North Amherst Road, Bedford, New Hampshire.
Send comments to Mr. Keith Hickey, Bedford Town Manager, Bedford Town Offices Building, 24 North Amherst Road, Bedford, New Hampshire 03000.
Town of Greenfield
Maps are available for inspection at Greenfield Town Hall, 7 Sawmill Road, Greenfield, New Hampshire.
Send comments to Mr. William Brooks, Chairman, Town of Greenfield Board of Selectmen, Greenfield Town Office, Post Office Box 256, Greenfield, New Hampshire 03047.
Town of Hillsborough
Maps are available for inspection at Hillsborough Town Planning Department, 29 School Street, Hillsborough, New Hampshire.
Send comments to Mr. Robert Bucker, Chairman, Town of Hillsborough Board of Selectmen, Post Office Box 7, Hillsborough, New Hampshire 03244.
Town of Hudson
Maps are available for inspection at Hudson Town Planning Department, 12 School Street, Hudson, New Hampshire.
Send comments to Mr. William Cole, Chairman, Town of Hudson Board of Selectmen, 12 School Street, Hudson, New Hampshire 03051.
Town of Litchfield
Maps are available for inspection at Litchfield Town Hall, 2 Liberty Way, Suite 1, Litchfield, New Hampshire.
Send comments to Mr. Jack Pinciaro, Town of Litchfield Board of Selectmen, Litchfield Town Hall, 2 Liberty Way, Litchfield, New Hampshire 03052.
Town of Lyndeborough
Maps are available for inspection at Lyndeborough Town Hall, 9 Citizens Hall Road, Lyndeborough, New Hampshire.
Send comments to Ms. Lorraine Strube, Chairman, Town of Lyndeborough Board of Selectmen, Post Office Box 6, Lyndeborough, New Hampshire 03082.
Town of Merrimack
Maps are available for inspection at Merrimack Town Hall, 6 Baboosic Lake Road, Merrimack, New Hampshire.
Send comments to Mr. William Mulligan, Merrimack Town Manager, Post Office Box 940, Merrimack, New Hampshire 03054.
City of Nashua
Maps are available for inspection at City of Nashua Planning Department, 229 Main Street, Nashua, New Hampshire.
Send comments to The Honorable Bernard Streeter, Mayor, City of Nashua, 229 Main Street, Nashua, New Hampshire 03061.
Town of Pelham
Maps are available for inspection at Town of Pelham Planning Department, 6 Village Green, Pelham, New Hampshire.
Send comments to Mr. William McDevitt, Chairman, Town of Pelham Board of Selectmen, 6 Village Green, Pelham, New Hampshire 03076.
Town of Peterborough
Maps are available for inspection at Town of Peterborough Planning Department, One Grove Street, Peterborough, New Hampshire.
Send comments to Ms. Pam Brenner, Peterborough Town Administrator, Peterborough Town House, One Grove Street, Peterborough, New Hampshire 03458.
Barnes County, North Dakota, and Incorporated Areas
Sheyenne River | Approximately 3200 feet downstream from 117th Ave, SE. (Barnes County Highway 21) | *1214 | +1214 | City of Valley City.
| Just upstream from Interstate 94 | *1218 | +1219
| Approximately 3350 feet upstream from 65th Street NE | *1225 | +1224
| Approximately 5600 feet upstream from Maryvale Bridge | None | +1228
Sheyenne River | Approximately 700 feet upstream from ND Highway 46 | None | +1162 | Barnes County (Unincorporated Areas).
| Just downstream from 43rd St., SE. (Barnes County Highway 21) | *1199 | +1198
| Just downstream from Baldhill Dam | None | +1239
* National Geodetic Vertical Datum.
# Depth in feet above ground.
+ North American Vertical Datum.
ADDRESSES
City of Valley City
Maps are available for inspection at City Hall, 220 3rd St. NE., Valley City, ND 58072.
Send comments to The Honorable Mary Lee Nielson, Mayor, P.O. Box 390, Valley City, ND 58072.
Barnes County (Unincorporated Areas)
Maps are available for inspection at Barnes County Courthouse, 230 4th Street NW., Valley City, ND 58072.
Send comments to The Honorable Harlan Opdahl, Chairman, 230 4th Street NW., Valley City, ND 58072.
Washington County, Oklahoma, and Incorporated Areas
Caney River | Approximately 2000 feet upstream from West 2350 Drive | *663 | +664 | City of Bartlesville Washington County (Unincorporated Areas).
| At intersection with West 1400 Road | *683 | +684
* National Geodetic Vertical Datum.
# Depth in feet above ground.
+ North American Vertical Datum.
ADDRESSES
City of Bartlesville
Maps are available for inspection at 420 S. Johnstone, Bartlesville, OK 74004.
Send comments to The Honorable Julie Daniels, Mayor, City of Bartlesville, 401 S. Johnstone, Bartlesville, OK 74003.
Washington County (Unincorporated Areas)
Maps are available for inspection at 420 S. Johnstone, Bartlesville, OK 74004.
Send comments to The Honorable, Linda D. Herdon, Chairman of the Board, County Commissioners, 400 S. Johnstone, Bartlesville, OK 74003.
Morrow County, Oregon, and Incorporated Areas
Blackhorse Canyon | Approximately 480 feet downstream from Arcade Street Bridge | *1439 | +1442 | City of Lexington.
| Approximately 0.4 miles upstream from SR 74 | *1478 | +1479
Hinton Creek | Downstream side of Main Street Bridge | *1933 | +1930 | City of Heppner Morrow County (Unincorporated Areas).
| Approximately 560 feet upstream from SR 74 | *2044 | +2045
Little Blackhorse Canyon | Approximately 350 feet downstream from SR 74 Culvert | *1870 | +1872 | Morrow County (Unincorporated Areas).
| Approximately 1.0 miles upstream from SR 74 | *2109 | +2120
Lorraine Canyon | Approximately 130 feet downstream from SR 74 | None | +1093 | City of Ione.
| Approximately 720 feet upstream from SR 74 | *1139 | +1159
Rietmann Canyon | Approximately 250 feet downstream of SR 74 Bridge | *1095 | +1099 | City of Ione.
| Approximately 500 ft. upstream of SR 74 Bridge | *1109 | +1115
Shobe Creek | Approximately 400 feet downstream from Chase Street Bridge | *1957 | +1960 | City of Heppner Morrow County (Unincorporated Areas).
| Approximately 0.4 miles upstream from SR 207 | *2150 | +2162
Willow Creek | Approximately 2.1 miles downstream from Fuller Canyon Road | *1789 | +1793 | City of Heppner Morrow County (Unincorporated Areas).
| Approximately 625 feet upstream of Alfalfa Street Bridge | *1979 | +1977
Willow Creek | Approximately 1400 feet downstream from Gooseberry Road | *1071 | +1069 | City of Ione Morrow County (Unincorporated Areas).
| Approximately 0.8 miles upstream from Gooseberry Road | *1099 | +1100
Willow Creek | Approximately 0.9 miles downstream of B Street Bridge | *1405 | +1408 | City of Lexington Morrow County (Unincorporated Areas).
| Approximately 800 feet upstream of B Street Bridge | *1456 | +1458
* National Geodetic Vertical Datum.
# Depth in feet above ground.
+ North American Vertical Datum.
ADDRESSES
City of Heppner
Maps are available for inspection at 111 N. Main Street, Heppner, OR 97836.
Send comments to The Honorable David Demayo, City Manager, City of Heppner, P.O. Box 756, Heppner, OR 97836.
City of Ione
Maps are available for inspection at City Hall, 385 West 2nd, Ione, OR 97843.
Send comments to The Honorable Marc Bruno, Mayor, City of Ione, P.O. Box 361, Ione, OR 97843.
City of Lexington
Maps are available for inspection at City Hall, 150 Main Street, Lexington, OR 97839.
Send comments to The Honorable Valerie Doherty, Mayor, City of Lexington, P.O. Box 416, Lexington, OR 97839.
Morrow County (Unincorporated Areas)
Maps are available for inspection at Morrow County Planning Department, 205 NE. 3rd Street, Irrigon, OR 97844.
Send comments to The Honorable Terry Tallman, Commissioner, Morrow County, P.O. Box 788, Heppner, OR 97836.
Coffee County, Tennessee, and Incorporated Areas
Duck River | Approximately 740 feet downstream of U.S. Highway 41 | *999 | +1001 | City of Manchester.
| Approximately 263 feet downstream of U.S. Highway 41 | *999 | +1001
Duck River | Approximately 263 feet downstream of U.S. Highway 41 | *999 | +1001 | Coffee County (Unincorporated Areas).
| Just upstream of Interstate 24 | *1013 | +1012
* National Geodetic Vertical Datum.
# Depth in feet above ground.
+ North American Vertical Datum.
ADDRESSES
City of Manchester
Maps are available for inspection at Planning and Use Department, 1329 McArthur Street, Manchester, TN 37355.
Send comments to The Honorable Johnnie W. Brown, Mayor, City of Manchester, 301 Oakdale Street, Manchester, TN 37355.
Coffee County (Unincorporated Areas)
Maps are available for inspection at Manchester City Hall, 200 West Fort Street, Manchester, TN 37355.
Send comments to The Honorable David Pennington, Mayor, Coffee County, County Courthouse, 300 Hillsboro Boulevard, Manchester, TN 37355.
Cooke County, Texas and Incorporated Areas
Indian Creek East Lower Reach | At confluence with Lake Ray Roberts | None | +645 | Cooke County (Unincorporated Areas).
| At Lake Kiowa Dam | None | +705
Indian Creek East Tributary 1 | At the confluence with Indian Creek East | None | +645 | Cooke County (Unincorporated Areas).
| Approximately 1,000 feet upstream from FM 217 | None | +693
Indian Creek East Tributary 2 | At the confluence with Indian Creek East Lower Reach | None | +663 | Cooke County (Unincorporated Areas).
| Approximately 1,000 feet downstream from FM Road 3496 | None | +724
Indian Creek Upper Reach | At confluence with Lake Kiowa | None | +705 | Cooke County (Unincorporated Areas).
| Approximately 2500 feet upstream from confluence with Lake Kiowa | None | +718
Lake Kiowa | Lake Kiowa | None | +705 | Cooke County (Unincorporated Areas).
Lake Ray Roberts | Lake Ray Roberts | None | +645 | Cooke County (Unincorporated Areas).
Pecan Creek North | Approximately 4,000 feet downstream from FM Road 2071 | None | +703 | Cooke County (Unincorporated Areas).
| Approximately 2,000 feet upstream from I-35 | None | +783
Pecan Creek South | At the Confluence with Lake Ray Roberts | None | +645 | City of Valley View Cooke County (Unincorporated Areas).
| Approximately 750 feet upstream from FM Road 922 | None | +712
Pecan Creek South Tributary 1 | At the Confluence with Pecan Creek South | None | +646 | Cooke County (Unincorporated Areas).
| At intersection with FM Road 922 | None | +687
Persimmon Creek | At confluence with Elm Fork Trinity River | None | +645 | Cooke County (Unincorporated Areas).
| Approximately 2,000 feet upstream from North Shore Drive | None | +700
Persimmon Creek Tributary 1 | At confluence with Persimmon Creek (Pioneer Valley Lake) | None | +664 | Cooke County (Unincorporated Areas).
| Approximately 2,000 feet upstream from confluence with Persimmon Creek (Pioneer Valley Lake) | None | +689
Persimmon Creek Tributary 2 | Confluence with Persimmon Creek (Pioneer Valley Lake) | None | +664 | Cooke County (Unincorporated Areas).
| Approximately 1,500 feet upstream from confluence with Persimmon Creek (Pioneer Valley Lake) | None | +667
Persimmon Creek Tributary 3 | At confluence with Persimmon Creek | None | +678 | Cooke County (Unincorporated Areas).
| Approximately 1,500 feet upstream from the confluence with Persimmon Creek | None | +697
Pond Creek | Approximately 1,000 feet downstream from confluence with Pond Creek Tributary 2 (County Border) | None | +646 | Cooke County (Unincorporated Areas).
| Approximately 1,000 feet downstream from Rail Road (County Border) | None | +674
Pond Creek Tributary 1 | At the confluence with Pond Creek | None | +646 | Cooke County (Unincorporated Areas).
| Approximately 1,200 feet upstream from I-35 | None | +705
Pond Creek Tributary 2 | At the confluence with Pond Creek Tributary | None | +675 | Cooke County (Unincorporated Areas).
| Approximately 1,000 feet upstream from I-35 | None | +702
Tributary Kiowa 1 | Confluence with Lake Kiowa | None | +705 | Cooke County (Unincorporated Areas).
| Approximately 1,200 feet upstream from confluence with Lake Kiowa | None | +713
Tributary Kiowa 2 | At confluence with Lake Kiowa | None | +705 | Cooke County (Unincorporated Areas).
| Approximately 2,500 feet upstream from confluence with Lake Kiowa | None | +723
Wolf Creek | At the confluence with Lake Ray Roberts | None | +645 | Cooke County (Unincorporated Areas).
| Approximately 1,000 feet upstream from FM 295 | None | +746
Wolf Creek Tributary 1 | At the confluence with Wolf Creek | None | +681 | Cooke County (Unincorporated Areas).
| Approximately 2,700 feet upstream from confluence with Wolf Creek | None | +709
* National Geodetic Vertical Datum.
# Depth in feet above ground.
+ North American Vertical Datum.
ADDRESSES
City of Valley View
Maps are available for inspection at 100 South Dixon, Gainesville, TX 76240.
Send comments to The Honorable Carl Kemplin, Mayor, City of Valley View, P.O. Box 268, Valley View, TX 76272.
Cooke County (Unincorporated Areas)
Maps are available for inspection at 100 South Dixon, Gainesville, TX 76240.
Send comments to The Honorable Bill Freeman, County Judge, 100 South Dixon, Room 110, Gainesville, TX 76240.
Clarke County, Virginia, and Incorporated Areas
Shenandoah River | Approximately 2.47 miles downstream of Harry Byrd Highway/State Highway 7, at the Clarke County/ West Virginia State line | None | +379 | Clarke County (Unincorporated Areas).
| Approximately 3.91 miles upstream of John Mosby Highway/U.S. Highway 17/50, at the Clarke/ Fauquier County line | None | +456
* National Geodetic Vertical Datum.
# Depth in feet above ground.
+ North American Vertical Datum.
ADDRESSES
Clarke County (Unincorporated Areas)
Maps are available for inspection at the County Administration Building, 102 North Church Street, Berryville, VA 22611.
Send comments to Mr. David Ash, County Administrator, Clarke County, 102 North Church Street, Berryville, VA 22611.
Warren County, Virginia, and Incorporated Areas
North Fork Shenandoah River | Confluence with South Fork Shenandoah River | None | +498 | Warren County (Unincorporated Areas).
| Town of Front Royal Corporate Limits (approximately 1.46 miles upstream of confluence with Shenandoah River) | None | +498
South Fork Shenandoah River | Confluence of Punches Run | None | +500 | Warren County (Unincorporated Areas).
| Town of Front Royal Corporate Limits (just upstream of Catlett Mountain Road and Luray Avenue) | *499 | +506
* National Geodetic Vertical Datum.
# Depth in feet above ground.
+ North American Vertical Datum.
ADDRESSES
Warren County (Unincorporated Areas).
Maps are available for inspection at 220 North Commerce Avenue, Suite 400, Front Royal, VA 22630.
Send comments to Mr. Douglas P. Stanley, County Administrator, 220 North Commerce Avenue, Suite 100, Front Royal, VA 22630.
Kitsap County, Washington, and Incorporated Areas
Clear Creek | Downstream side of NW. Bucklin Hill Road | *10 | +13 | Kitsap County (Unincorporated Areas).
| Approximately 60 feet downstream of NW. Mountain View Road | None | +180
* National Geodetic Vertical Datum.
# Depth in feet above ground.
+ North American Vertical Datum.
ADDRESSES
Kitsap County (Unincorporated Areas)
Maps are available for inspection at Department of Public Works 614 Division Street, Administrative Building, Port Orchard, WA 98366.
Send comments to Dave Tucker, Surface/Stormwater Supervisor, Department of Public Works 614 Division Street, Administrative Building, Port Orchard, WA.
Rock County, Wisconsin and Incorporated Areas
Allen Creek | 170 feet downstream of Highway 213/59 | None | *871 | City of Evansville, Rock County (Unincorporated Areas).
| At Lake Leota Dam | *902 | *903
Bass Creek | At Highway 11 | *802 | *801 | Village of Footville, Rock County (Unincorporated Areas).
| At W. Dorner Road | None | *814
Blackhawk Creek | Upstream face of Highway 14 bridge | None | *838 | Rock County (Unincorporated Areas).
| 500 feet upstream of S. Milton Shopiere Rd | None | *877
East Fork Raccoon Creek | 1 mile downstream from W. Saint Lawrence Ave | *746 | *746 | Rock County (Unincorporated Areas).
| W. Spring Creek Rd | *770 | *770
Fisher Creek | At mouth at Rock River | *760 | *761 | City of Janesville, Rock County (Unincorporated Areas).
| 2100 feet upstream of N. Little Rd | None | *969
Greenbelt Tributary 1 | At mouth at Blackhawk Creek | *808 | *808 | City of Janesville.
| Just downstream of Sandhill Dr | None | *878
Greenbelt Tributary 2 | At mouth at Greenbelt Tributary 4 | None | *851 | City of Janesville, Rock County (Unincorporated Areas).
| 470 feet upstream of E. Milwaukee St | None | *873
Greenbelt Tributary 3 | At mouth at Greenbelt Tributary 1 | None | *834 | City of Janesville, Rock County (Unincorporated Areas).
| ½ mile upstream of Saratoga Dr | None | *877
Greenbelt Tributary 4 | At mouth at Greenbelt Tributary 1 | None | *828 | City of Janesville, Rock County (Unincorporated Areas).
| 350 feet upstream of County Highway A | None | *880
Greenbelt Tributary 5 | At mouth at Greenbelt Tributary 4 | None | *829 | City of Janesville, Rock County (Unincorporated Areas).
| 600 feet upstream of Highway 14 | None | *882
Markham Creek | At mouth at Rock River | *759 | *760 | City of Janesville, Rock County (Unincorporated Areas).
| 2100 feet upstream of W. Hanover Rd | None | *819
Morningside Tributary | At mouth at Spring Brook-Janesville | *808 | *808 | City of Janesville.
| Just downstream of Humes Rd | None | *877
Raccoon Creek | 1 mile downstream from W. Saint Lawrence Ave | *741 | *742 | Rock County (Unincorporated Areas).
| Just upstream of Highway 81 | None | *773
Rock River | State line 70 feet downstream of Shirland Ave | *737 | *738 | City of Janesville, City of Beloit, Rock County (Unincorporated Areas).
| At Lake Koshkonong | *784 | *785
Saunders Creek | At mouth at Rock River | *782 | *783 | City of Edgerton, Rock County (Unincorporated Areas).
| At County Boundary approx. 1¾ miles upstream of pedestrian bridge at Chamberlain and Blaine St | *822 | *822
Spring Brook-Beloit | At mouth at Turtle Creek | *764 | *764 | City of Beloit, Rock County (Unincorporated Areas).
| 60 feet upstream of Clinton Corners Rd | None | *917
Unnamed Tributary 1 to Raccoon Creek | At mouth at Raccoon Creek | *761 | *761 | Rock County (Unincorporated Areas).
| W. Beloit Newark Rd | *804 | *804
Unnamed Tributary 2 to Raccoon Creek | Mouth at Unnamed Tributary 1 to Raccoon Creek | *763 | *763 | Rock County (Unincorporated Areas).
| W. Beloit Newark Rd | *826 | *827
Unnamed Tributary 1 to Rock River | At mouth at Rock River | *753 | *754 | Rock County (Unincorporated Areas).
| At County Highway G | None | *780
Unnamed Tributary to Blackhawk Creek | At mouth at Blackhawk Creek | None | *860 | Rock County (Unincorporated Areas).
| Just downstream of N. Tarrant Rd | None | *887
Unnamed Tributary to E. Fork Raccoon Creek | At mouth at East Fork Raccoon Creek | *755 | *754 | Rock County (Unincorporated Areas).
| 300 feet upstream of County Highway Q | None | *818
Unnamed Tributary in Turtle Township | 1.4 miles downstream from Highway 67 bridge | None | *791 | Rock County (Unincorporated Areas).
| 400 feet downstream from Clinton Corners Rd | None | *920
* National Geodetic Vertical Datum.
# Depth in feet above ground.
+ North American Vertical Datum.
ADDRESSES
Rock County (Unincorporated Areas)
Maps are available for inspection at: Rock County Department of Planning Development, 51 South Main Street, Janesville, WI 53545.
Send comments to: James Forrestal, Zoning Administrator, 51 South Main Street, Janesville, WI 53545.
City of Beloit
Maps are available for inspection at: Engineering Department, 100 State St., Beloit, WI 53511.
Send comments to: Mike Flesch, City Engineer, 100 State St., Beloit, WI 53511.
City of Edgerton
Maps are available for inspection at: City Hall, 12 Albion St., Edgerton, WI 53534.
Send comments to: Ramona Flanigan, City Administrator, 12 Albion St., Edgerton, WI 53534.
City of Evansville
Maps are available for inspection at: City Hall, 31 South Madison St., Evansville, WI 53536.
Send comments to: Willam Connors, City Administrator, 31 South Madison St., Evansville, WI 53536.
City of Janesville
Maps are available for inspection at: City Hall, 18 N. Jackson St., Janesville, WI 53547-5005.
Send comments to: Brad Cantrell, Community Development Director, 18 N. Jackson St., Janesville, WI 53547-5005.
Village of Footville
Maps are available for inspection at: Village Hall, 156 Depot St., Footville, WI 53537.
Send comments to: Gary Selck, Village President, 156 Depot St., Footville, WI 53537.
Snohomish County, Washington, and Incorporated Areas
Skykomish River | Approximately 0.5 miles southwest of the intersection of 183rd Avenue SE and 176th Street SE | *47 | +50 | City of Monroe.
| Approximately 0.7 miles southwest of the intersection of Highway 2 and 227th Avenue | *66 | +69
Skykomish River | Approximately 0.9 miles upstream of State Route 522 | *42 | +47 | Snohomish County (Unincorporated Areas).
| Approximately 0.4 miles southeast of the intersection of Highway 2 and Fern Bluff Road | *85 | +89
Snohomish River | Just upstream of State Route 522 | *41 | +43 | Snohomish County (Unincorporated Areas).
| Approximately 0.9 miles upstream of State Route 522 | *42 | +47
Snoqualmie River | Approximately 0.9 miles upstream of State Route 522 | *42 | +47 | Snohomish County (Unincorporated Areas).
| At the boundary with King County | *46 | +50
* National Geodetic Vertical Datum.
# Depth in feet above ground.
+ North American Vertical Datum.
ADDRESSES
City of Monroe
Maps are available for inspection at Engineering Department, 806 West Main Street, Monroe, WA 98272.
Send comments to The Honorable Donnetta Walser, Mayor, City of Monroe, City Hall, 806 West Main Street, Monroe, WA 98272.
Snohomish County (Unincorporated Areas)
Maps are available for inspection at Snohomish County Planning and Development Services, 3000 Rockefeller Avenue M/S 604, Everett, WA 98201.
Send comments to The Honorable Kirke Sievers, Chairman, Snohomish County Council, 3000 Rockefeller Avenue M/S 609, Everett, WA 98201.

Catalog of Federal Domestic Assistance No. 83.100, “Flood Insurance.”)

Dated: January 25, 2007.
David I. Maurstad,
Director, Mitigation Division, Federal Emergency Management Agency, Department of Homeland Security.

[FR Doc. E7-1771 Filed 2-2-07; 8:45 am]

BILLING CODE 9110-12-P